DEPARTMENT OF COMMERCE

International Trade Administration

[A-549-502]

Circular Welded Carbon Steel Pipes and Tubes from Thailand: Amended Final Results of Antidumping Duty Administrative Review

AGENCY: Import Administration, International Trade Administration, Department of Commerce.

DATES: Effective Date: November 29, 2010.

FOR FURTHER INFORMATION CONTACT: Myrna Lobo, AD/CVD Operations, Office 6, Import Administration, International Trade Administration, U.S. Department of Commerce, 14th Street and Constitution Avenue, NW., Washington, DC 20230; telephone: (202) 482-2371.

SUPPLEMENTARY INFORMATION: On October 13, 2010, the Department of Commerce (the Department) completed the final results of administrative review of the antidumping duty order on circular welded carbon steel pipes and tubes (pipes and tubes) from Thailand, covering the period March 1, 2008 through February 28, 2009. The final results were subsequently released to all parties in the proceeding, and published in the Federal Register on October 20, 2010. See Circular Welded Carbon Steel Pipes and Tubes From Thailand: Final Results of Antidumping Duty Administrative Review, 75 FR 64696 (October 20, 2010).

The Department disclosed the calculations in connection with the final results as required under 19 CFR 351.224(b). On October 20, 2010, pursuant to 19 CFR 351.224(c)(2), we received a timely filed allegation from the respondent in this administrative review, Saha Thai Steel Pipe (Public) Company, Limited (Saha Thai), that the Department made a ministerial error with respect to the calculation of Saha Thai's dumping margin. See Letter from Saha Thai to the Department of Commerce, regarding “Ministerial Error in Final Results,” dated October 20, 2010. For further details, see Memorandum from Myrna Lobo, Case Analyst, and Heidi Schriefer, Senior Accountant, to Barbara E. Tillman, Director, titled, “Ministerial Error Allegation—Final Results of the Antidumping Duty Administrative Review of Circular Welded Carbon Steel Pipes and Tubes from Thailand: Saha Thai Steel Pipe (Public) Company Ltd.,” dated November 19, 2010 (Ministerial Error Allegation Memorandum). We did not receive comments on this allegation from any other interested parties.

A ministerial error, as defined at section 751(h) of the Tariff Act of 1930, as amended (the Act), includes “errors in addition, subtraction, or other arithmetic function, clerical errors resulting from inaccurate copying, duplication, or the like, and any other type of unintentional error which the Department considers ministerial.” See also 19 CFR 351.224(f). In its letter, Saha Thai alleges that the Department made a ministerial error by using Saha Thai's 2008 selling and administrative expenses to calculate Saha Thai's 2007 general and administrative (G&A) expense ratio. As stated in the final cost calculation memorandum accompanying the Final Results, we calculated the fiscal year 2007 G&A expense rate to use in the calculation of cost of production and constructed value for products with dates of sale prior to the POR (i.e., the pre-POR quarters). See Memorandum from Heidi K. Schriefer, Senior Accountant to Neal M. Halper, Director, Office of Accounting “Cost of Production and Constructed Value Calculation Adjustments for the Final Results—Saha Thai Steel Pipe (Public) Company, Ltd. (“Saha Thai”)” dated October 13, 2010. The Department agrees that this constitutes a ministerial error within the meaning of section 751(h) of the Act and 19 CFR 351.224(f) because it inadvertently used the 2008 figure instead of the 2007 figure to calculate the 2007 G&A expense ratio. Therefore, the Department has corrected this expense ratio and revised its margin calculations to reflect this correction. See Ministerial Error Allegation Memorandum at 2.

In accordance with section 751(h) of the Act and 19 CFR 351.224(e), we are amending the final results in this antidumping duty administrative review of pipes and tubes from Thailand. As a result of correcting the ministerial error, the amended final weighted-average dumping margin is as follows:

Manufacturer/exporter | Final results weighted-average margin percentage | Amended final results weighted-average margin percentage
Saha Thai Steel Pipe (Public) Co. Ltd. | 2.13 percent | 1.76 percent

Assessment Rates

The Department shall determine, and U.S. Customs and Border Protection (CBP) shall assess, antidumping duties on all appropriate entries. Pursuant to 19 CFR 351.212(b)(1), the Department calculates an assessment rate for each importer of the subject merchandise. The Department intends to issue appropriate assessment instructions directly to CBP 15 days after the date of publication of these amended final results of review.

The Department clarified its “automatic assessment” regulation on May 6, 2003. This clarification will apply to entries of subject merchandise during the period of review produced by the company included in these amended final results of review for which the reviewed company did not know their merchandise was destined for the United States. In such instances, we will instruct CBP to liquidate unreviewed entries at the all-others rate from the investigation if there is no rate for the intermediate company involved in the transaction. For a full discussion of this clarification, see Antidumping and Countervailing Duty Proceedings: Assessment of Antidumping Duties, 68 FR 23954 (May 6, 2003).

Cash Deposit Requirements

The following deposit requirements will be effective upon publication of the amended final results of this administrative review for all shipments of subject merchandise entered, or withdrawn from warehouse, for consumption on or after the publication date of these amended final results, as provided by section 751(a)(2)(C) of the Act: (1) For the company covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 15.67 percent, the all-others rate established in the less than fair value investigation. See Circular Welded Carbon Steel Pipes and Tubes From Thailand: Final Determination of Sales at Less Than Fair Value, 51 FR 3384 (January 27, 1986).

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(a), 751(h), and 777(i) of the Act, and 19 CFR 351.224(e).

Dated: November 19, 2010.
Ronald K. Lorentzen,
Deputy Assistant Secretary for Import Administration.

[FR Doc. 2010-29962 Filed 11-26-10; 8:45 am]

BILLING CODE 3510-DS-P